DEPARTMENT OF HEALTH AND HUMAN SERVICES

National Institutes of Health

National Library of Medicine; Amended Notice of Meeting

Notice is hereby given of a change in the meeting of the Biomedical Library Review Committee, June 14, 2001, 8:30 am to June 15, 2001, 5 pm, National Library of Medicine, 8600 Rockville Pike, Board Room, Bethesda, MD, 20894 which was published in the Federal Register on April 12, 2001, 66 FR 18962.

On June 15, 2001 the meeting will be open to the public from 8:30 to 9 a.m. and closed from 9 a.m. to adjournment. The meeting is partially closed to the public.

Dated: May 18, 2001.
LaVerne Y. Stringfield,
Director, Office of Federal Advisory Committee Policy.

[FR Doc. 01-13193 Filed 5-24-01; 8:45 am]

BILLING CODE 4140-01-M